DEPARTMENT OF HOUSING AND URBAN DEVELOPMENT

[Docket No. FR-6198-N-01]

Announcement of Tenant Protection Voucher Funding Awards for Fiscal Year 2019 for the Housing Choice Voucher Program

AGENCY: Office of the Assistant Secretary for Public and Indian Housing, HUD.

ACTION: Announcement of Fiscal Year 2019 awards.

SUMMARY: In accordance with Section 102(a)(4)(C) of the Department of Housing and Urban Development Reform Act of 1989, this document notifies the public of Tenant Protection Voucher (TPV) funding awards for Fiscal Year (FY) 2019 to public housing agencies (PHAs) under the Section 8 Housing Choice Voucher Program (HCVP). The purpose of this notice is to publish the names and addresses of awardees, and the amount of their non-competitive funding awards for assisting households affected by housing conversion actions, public housing relocations and replacements, moderate rehabilitation replacements, and Choice Neighborhoods and HOPE VI voucher awards.

FOR FURTHER INFORMATION CONTACT: Danielle L. Bastarache, Deputy Assistant Secretary, Office of Public Housing and Voucher Programs, Office of Public and Indian Housing, Department of Housing and Urban Development, 451 Seventh Street SW, Room 4204, Washington, DC 20410-5000, telephone (202) 402-1380 (this is not a toll-free number). Persons with hearing or speech impairments may access this number via TTY by calling the Federal Relay Service at 800-877-8389 (toll-free number).

SUPPLEMENTARY INFORMATION: The regulations governing the HCVP are published at 24 CFR 982. The purpose of the rental assistance program is to assist eligible families to pay their rent for decent, safe, and sanitary housing in the private rental market. The regulations for allocating housing assistance budget authority under Section 213(d) of the Housing and Community Development Act of 1974 are published at 24 CFR part 791, subpart D.

The FY 2019 awardees announced in this notice were provided HCVP tenant protection vouchers (TPVs) funds on an as-needed, non-competitive basis, i.e., not under the provisions of a Notice of Funding Availability (NOFAs). TPV awards made to PHAs for program actions that displace families living in public housing were made on a first-come, first-served basis in accordance with PIH Notice 2018-04, Voucher Funding in Connection with the Demolition or Disposition of Occupied Public Housing Units, and PIH Notice 2018-09, “Implementation of the Federal Fiscal Year (FFY) 2019 Funding Provision for the Housing Choice Voucher Program.” Awards for the Rental Assistance Demonstration (RAD) were provided for Rental Supplement and Rental Assistance Payment Projects (RAD Second Component) consistent with PIH Notice H-2019-09 PIH-2019-23(HA), REV-4, “Rental Assistance Demonstration-Final Implementation, Revision 4.” Announcements of awards provided under the NOFA process for Mainstream, Designated Housing, Family Unification (FUP), and Veterans Assistance Supportive Housing (VASH) programs are published in a separate Federal Register notice.

Awards published under this notice were provided to assist families: (1) Living in federal public housing units previously owned by PHAs and subsequently demolished, converted to Section 8 assistance, sold, or otherwise disposed; (2) affected by the expiration or termination of their Project-based Section 8 and Moderate Rehabilitation contracts; (3) in properties where the owner has prepaid the HUD mortgage; (4) in projects where the Rental Supplement and Rental Assistance Payments contracts are expiring (RAD—Second Component); (5) relocated in connection with the demolition of public housing; (6) provided replacement housing assistance for single room occupancy (SRO) units that fail housing quality standards (HQS); (7) in public housing developments scheduled for demolition in connection with a HUD-approved Choice Neighborhoods or HOPE VI revitalization and (8) consistent with PIH Notice 2019-01, “Funding Availability for Tenant Protection Voucher for Certain At-Risk Households in Low Vacancy Areas-Fiscal Year 2019.”

A special administrative fee of $200 per occupied unit was provided to PHAs to compensate for any extraordinary HCVP administrative costs associated with the Multifamily Housing conversion actions.

The Department awarded total new budget authority of $118,418,829 to recipients under all the above-mentioned categories for 12,111 housing choice vouchers. This budget authority includes $620,877 of unobligated commitments made in FY 2018. These funds were reserved by September 30, 2018, but not contracted until FY 2019, and thus have been included with obligated commitments for FY 2019.

In accordance with Section 102(a)(4)(C) of the Department of Housing and Urban Development Reform Act of 1989 (103 Stat. 1987, 42 U.S.C. 3545), the Department is publishing the names and addresses of awardees, and their award amounts in Appendix A. The awardees are listed alphabetically by State for each type of TPV award.

Dated: March 2, 2020.
R. Hunter Kurtz,
Assistant Secretary for Public and Indian Housing.

BILLING CODE 4210-67-P

[FR Doc. 2020-05648 Filed 3-17-20; 8:45 am]

BILLING CODE 4210-67-C